DEPARTMENT OF TRANSPORTATION

Federal Aviation Administration

14 CFR Part 39

[Docket No. FAA-2024-2542; Project Identifier MCAI-2023-00611-R]

RIN 2120-AA64

Airworthiness Directives; Airbus Helicopters (Type Certificate Previously Held by Eurocopter France)

AGENCY: Federal Aviation Administration (FAA), DOT.

ACTION: Notice of proposed rulemaking (NPRM).

SUMMARY: The FAA proposes to supersede Airworthiness Directive (AD) 2008-10-01 and AD 2010-05-51, which apply to certain Eurocopter France (now Airbus Helicopters) Model EC120B helicopters. AD 2008-10-01 requires replacing certain part-numbered and serial-numbered spherical thrust bearings. AD 2010-05-51 requires repetitively inspecting the main rotor (M/R) head rotor hub (rotor hub) and, depending on the results, taking corrective action. Since the FAA issued those ADs, the manufacturer revised the airworthiness limitations section (ALS) to incorporate various airworthiness limitations, tasks, and associated thresholds and intervals that were previously contained in service bulletins, as well as incorporate a new task. This proposed AD would require revising the ALS of the existing maintenance manual (MM) or instructions for continued airworthiness (ICAs) and the existing approved maintenance or inspection program, as applicable, as specified in a European Union Aviation Safety Agency (EASA) AD, which is proposed for incorporation by reference. The FAA is proposing this AD to address the unsafe condition on these products.

DATES: The FAA must receive comments on this NPRM by January 13, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2542; or in person at Docket Operations between 9 a.m. and 5 p.m., Monday through Friday, except Federal holidays. The AD docket contains this NPRM, the EASA AD, any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. The EASA material is also available at regulations.gov under Docket No. FAA-2024-2542.

FOR FURTHER INFORMATION CONTACT: Hye Yoon Jang, Aviation Safety Engineer, 1600 Stewart Avenue, Suite 410, Westbury, NY 11590; phone: (206) 231-3758; email: hye.yoon.jang@faa.gov.

SUPPLEMENTARY INFORMATION:

Comments Invited

The FAA invites you to send any written relevant data, views, or arguments about this proposal. Send your comments to an address listed under ADDRESSES. Include “Docket No. FAA-2024-2542; Project Identifier MCAI-2023-00611-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Hye Yoon Jang, Aviation Safety Engineer, 1600 Stewart Avenue, Suite 410, Westbury, NY 11590; phone: (206) 231-3758; email: hye.yoon.jang@faa.gov. Any commentary that the FAA receives which is not specifically designated as CBI will be placed in the public docket for this rulemaking.

Background

The FAA issued AD 2008-10-01, Amendment 39-15507 (73 FR 24856, May 6, 2008) (AD 2008-10-01), for Eurocopter France (now Airbus Helicopters) Model EC120B helicopters with spherical thrust bearings part number (P/N) 7050A3622036 having serial number LK0130, LK0142, LK0155, or LK0158, installed. AD 2008-10-01 was prompted by Direction generale de l'aviation civile France (DGAC), which was the aviation authority for France before the European Aviation Safety Agency, AD F-2006-040, dated February 15, 2006 (DGAC France AD F-2006-040), to address a batch of non-conforming spherical thrust bearings. AD 2008-10-01 requires removing any identified spherical thrust bearing and installing an airworthy spherical thrust bearing. The FAA issued AD 2008-10-01 to prevent failure of a spherical thrust bearing during flight, which, if not addressed, could cause the M/R system to separate from the helicopter, which would be catastrophic.

The FAA issued AD 2010-05-51, Amendment 39-16265 (75 FR 22510, April 29, 2010) (AD 2010-05-51), for Eurocopter France (now Airbus Helicopters) Model EC120B helicopters with a rotor hub P/N C622A1002103, C622A1002104, or C622A1002105, installed. AD 2010-05-51 was prompted by European Aviation Safety Agency, which was the aviation authority for France after the DGAC and before the European Union Aviation Safety Agency, Emergency AD 2010-0026-E, dated February 19, 2010 (European Aviation Safety Agency Emergency AD 2010-0026-E), to address failure of a rotor hub attachment area in one of the three drag damper fittings. AD 2010-05-51 requires repetitively inspecting the rotor hub, and depending on the results, sanding the area to inspect for cracks, and replacing the rotor hub if cracks are found. The FAA issued AD 2010-05-51 to prevent failure of a rotor hub, excessive vibrations, loss of an M/R blade, and subsequent loss of control of the helicopter.

Actions Since AD 2008-10-01 and AD 2010-05-51 Were Issued

Since the FAA issued AD 2008-10-01 and AD 2010-05-51, EASA, which is the Technical Agent for the Member States of the European Union (including France), has issued EASA AD 2023-0083, dated April 19, 2023 (EASA AD 2023-0083), to supersede DGAC France AD F-2006-040 and European Aviation Safety Agency Emergency AD 2010-0026-E. EASA advises that airworthiness limitations instructions are identified as mandatory for continued airworthiness and that Revision 3 of AH [Airbus Helicopters] EC 120 B Chapter 4 ALS, dated July 18, 2022, was issued to introduce new, or more restrictive tasks, or both, including incorporation of the requirements of DGAC France AD F-2006-040 and EASA Emergency AD 2010-0026-E. Consequently, EASA AD 2023-0083 retains the requirements of DGAC France AD F-2006-040 and European Aviation Safety Agency Emergency AD 2010-0026-E and requires accomplishing the actions specified in, and the incorporation into the Aircraft Maintenance Programme (AMP) of, AH [Airbus Helicopters] EC 120 B Chapter 4 ALS, Revision 3, dated July 18, 2022. According to EASA, failure to accomplish these instructions could result in an unsafe condition. You may examine EASA AD 2023-0083 in the AD docket at regulations.gov under Docket No. FAA-2024-2542.

Lastly, since the FAA issued AD 2008-10-01 and AD 2010-05-51, Eurocopter France changed its name to Airbus Helicopters; this NPRM reflects that change.

Material Incorporated by Reference Under 1 CFR Part 51

The FAA reviewed EASA AD 2023-0083, which requires replacing components before exceeding their life limits and accomplishing all applicable maintenance tasks within thresholds and intervals specified in the ALS as defined within. Depending on the results of the maintenance tasks, EASA AD 2023-0083 requires accomplishing corrective action(s) or contacting AH [Airbus Helicopters] for approved instructions and accomplishing those instructions.

Additionally, EASA AD 2023-0083 requires revising the AMP by incorporating the limitations, tasks, and associated thresholds and intervals described in the specified ALS, as applicable. Revising the AMP constitutes terminating action for the requirement to record accomplishment of the actions of replacing components before exceeding their life limits and accomplishing maintenance tasks within thresholds and intervals specified in the applicable ALS as required by EASA AD 2023-0083 for demonstration of AD compliance on a continued basis.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in its AD referenced above. The FAA is issuing this NPRM after determining that the unsafe condition described previously is likely to exist or develop on other products of the same type design.

Proposed AD Requirements in This NPRM

This proposed AD would require revising the ALS of the existing MM or ICAs and the existing approved maintenance or inspection program, as applicable, by incorporating new or more restrictive actions and associated thresholds and intervals, including any life limits, specified in EASA AD 2023-0083, described previously, as incorporated by reference, except for any differences identified as exceptions in the regulatory text of this proposed AD and except as discussed under “Differences Between this Proposed AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0083 by reference in the FAA final rule. Using common terms that are the same as the heading of a particular section in EASA AD 2023-0083 does not mean that operators need comply only with that section. For example, where the AD requirement refers to “all required actions and compliance times,” compliance with this AD requirement is not limited to the section titled “Required Action(s) and Compliance Time(s)” in EASA AD 2023-0083. Material referenced in EASA AD 2023-0083 for compliance will be available at regulations.gov under Docket No. FAA-2024-2542 after the FAA final rule is published.

Differences Between This Proposed AD and the EASA AD

EASA AD 2023-0083 requires, as individual tasks, replacing certain components before exceeding applicable life limits, accomplishing certain maintenance tasks within thresholds and intervals as specified in the ALS, as defined within, and depending on the results, accomplishing corrective action(s), whereas this proposed AD would not. EASA AD 2023-0083 also requires revising the approved AMP to incorporate the limitations, tasks, and associated thresholds and intervals described in that ALS within 12 months, whereas this proposed AD would require revising the ALS of the existing MM or ICAs and the existing approved maintenance or inspection program, as applicable, by incorporating the limitations, tasks, and associated thresholds and intervals described in that ALS within 30 days, and clarifies that if the initial instance of an incorporated limitation or threshold therein is reached before 30 days after the effective date of the final rule of this proposed AD, you still have up to 30 days after the effective date of the final rule of this proposed AD to accomplish the corresponding task.

Lastly, the material referenced in “the ALS,” as defined in EASA AD 2023-0083, specifies contacting Airbus [Helicopters] if there is a crack in the rotor hub, whereas this proposed AD would not require contacting Airbus Helicopters.

Costs of Compliance

The FAA estimates that this AD, if adopted as proposed, would affect 65 helicopters of U.S. registry. Labor rates are estimated at $85 per work-hour. Based on these numbers, the FAA estimates the following costs to comply with this proposed AD.

Revising the ALS of the existing MM or ICAs and the existing approved maintenance or inspection program, as applicable, would take 1 work-hour, at an estimated cost of $85 per helicopter and $5,525 for the U.S. fleet.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2008-10-01, Amendment 39-15507 (73 FR 24856, May 6, 2008), and AD 2010-05-51, Amendment 39-16265 (75 FR 22510, April 29, 2010); and

b. Adding the following new airworthiness directive:

Airbus Helicopters (Type Certificate previously held by Eurocopter France): Docket No. FAA-2024-2542; Project Identifier MCAI-2023-00611-R.

(a) Comments Due Date

The FAA must receive comments on this airworthiness directive (AD) by January 13, 2025.

(b) Affected ADs

This AD replaces AD 2008-10-01, Amendment 39-15507 (73 FR 24856, May 6, 2008), and AD 2010-05-51, Amendment 39-16265 (75 FR 22510, April 29, 2010).

(c) Applicability

This AD applies to Airbus Helicopters (type certificate previously held by Eurocopter France) Model EC120B helicopters, certificated in any category.

(d) Subject

Joint Aircraft System Component (JASC) Code: 6220, Main Rotor Head.

(e) Unsafe Condition

This AD was prompted by new and more restrictive airworthiness limitations. The FAA is issuing this AD to prevent failure of certain parts, which if not addressed, could result in subsequent loss of control of the helicopter.

(f) Compliance

Comply with this AD within the compliance times specified, unless already done.

(g) Required Actions

Except as specified in paragraphs (h) and (i) of this AD: Comply with all required actions and compliance times specified in, and in accordance with, European Union Aviation Safety Agency AD 2023-0083, dated April 19, 2023 (EASA AD 2023-0083).

(h) Exceptions to EASA AD 2023-0083

(1) Where EASA AD 2023-0083 refers to its effective date, this AD requires using the effective date of this AD.

(2) This AD does not adopt paragraphs (1), (2), (4), and (5) of EASA AD 2023-0083.

(3) Where paragraph (3) of EASA AD 2023-0083 specifies “Within 12 months after the effective date of this AD, revise the approved AMP,” this AD requires replacing that text with “Within 30 days after the effective date of this AD, revise the airworthiness limitations section of the existing maintenance manual or instructions for continued airworthiness and the existing approved maintenance or inspection program, as applicable.”

(4) Regarding “the ALS” as defined in EASA AD 2023-0083; where the material referenced in “the ALS” in paragraph (3) of EASA AD 2023-0083 specifies contacting Airbus [Helicopters] if there is a crack in the (main rotor head rotor) hub body, this AD does not require contacting Airbus Helicopters.

(5) The initial compliance time for doing the tasks specified in paragraph (3) of EASA AD 2023-0083 is on or before the applicable “limitations” and “associated thresholds” as incorporated by the requirements of paragraph (3) of EASA AD 2023-0083 or within 30 days after the effective date of this AD, whichever occurs later.

(6) This AD does not adopt the “Remarks” section of EASA AD 2023-0083.

(i) Provisions for Alternative Actions and Intervals

After the action required by paragraph (g) of this AD has been done, no alternative actions and associated thresholds and intervals, including life limits, are allowed unless they are approved as specified in the provisions of the “Ref. Publications” section of EASA AD 2023-0083.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. If sending information directly to the manager of the International Validation Branch, mail it to the address identified in paragraph (k) of this AD or email to: AMOC@faa.gov. If mailing information, also submit information by email.

(2) Before using any approved AMOC, notify your appropriate principal inspector, or lacking a principal inspector, the manager of the local flight standards district office/certificate holding district office.

(k) Additional Information

For more information about this AD, contact Hye Yoon Jang, Aviation Safety Engineer, 1600 Stewart Avenue, Suite 410, Westbury, NY 11590; phone: (206) 231-3758; email: hye.yoon.jang@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2023-0083, dated April 19, 2023.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222 5110.

(5) You may view this material at the National Archives and Records Administration (NARA). For information on the availability of this material at NARA, visit www.archives.gov/federal-register/cfr/ibr-locations or email fr.inspection@nara.gov.

Issued on November 21, 2024.
Victor Wicklund,
Deputy Director, Compliance & Airworthiness Division, Aircraft Certification Service.

[FR Doc. 2024-27814 Filed 11-27-24; 8:45 am]

BILLING CODE 4910-13-P